DEPARTMENT OF TRANSPORTATION

Federal Aviation Administration

14 CFR Part 97

[Docket No. 31027; Amdt. No. 3652]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective July 31, 2015. The compliance date for each SIAP, associated Takeoff Minimums, and ODP is specified in the amendatory provisions.

The incorporation by reference of certain publications listed in the regulations is approved by the Director of the Federal Register as of July 31, 2015.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Richard A. Dunham III, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, incorporation by reference, Navigation (air).

Issued in Washington, DC, on July 2, 2015.
John Duncan,
Director, Flight Standards Service.

Adoption of the Amendment

Accordingly, pursuant to the authority delegated to me, Title 14, Code of Federal regulations, part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
23-Jul-15 | WI | Middleton | Middleton Muni—Morey Field | 5/4207 | 6/9/2015 | This NOTAM, published in TL 15-16, is hereby rescinded in its entirety.
23-Jul-15 | WI | Middleton | Middleton Muni—Morey Field | 5/9942 | 6/9/2015 | This NOTAM, published in TL 15-16, is hereby rescinded in its entirety.
20-Aug-15 | AK | St Mary's | St Mary's | 5/0483 | 06/23/15 | RNAV (GPS) RWY 35, Amdt 2B.
20-Aug-15 | FL | Marathon | The Florida Keys Marathon | 5/0558 | 06/23/15 | Takeoff Minimums and (Obstacle) DP, Amdt 1.
20-Aug-15 | FL | Okeechobee | Okeechobee County | 5/0639 | 06/16/15 | RNAV (GPS) RWY 5, Amdt 1A.
20-Aug-15 | FL | Okeechobee | Okeechobee County | 5/0640 | 06/16/15 | RNAV (GPS) RWY 14, Amdt 1A.
20-Aug-15 | FL | Okeechobee | Okeechobee County | 5/0642 | 06/16/15 | RNAV (GPS) RWY 23, Amdt 2A.
20-Aug-15 | FL | Okeechobee | Okeechobee County | 5/0643 | 06/16/15 | RNAV (GPS) RWY 32, Orig-B.
20-Aug-15 | SC | Florence | Florence Rgnl | 5/0708 | 06/23/15 | RNAV (GPS) RWY 27, Orig-A.
20-Aug-15 | SC | Florence | Florence Rgnl | 5/0709 | 06/23/15 | ILS OR LOC RWY 9, Amdt 12A.
20-Aug-15 | SC | Florence | Florence Rgnl | 5/0710 | 06/23/15 | RNAV (GPS) RWY 9, Orig-B.
20-Aug-15 | SC | Florence | Florence Rgnl | 5/0711 | 06/23/15 | VOR OR TACAN-A, Amdt 6A.
20-Aug-15 | TN | Jacksboro | Campbell County | 5/0721 | 06/23/15 | RNAV (GPS) RWY 23, Amdt 1.
20-Aug-15 | FL | Tampa | Tampa Intl | 5/0960 | 06/23/15 | ILS OR LOC RWY 1L, ILS RWY 1L (SA CAT I), ILS RWY 1L (CAT II), ILS RWY 1L (CAT III), Amdt 17.
20-Aug-15 | VT | Burlington | Burlington Intl | 5/0968 | 06/23/15 | ILS OR LOC/DME RWY 33, Amdt 1A.
20-Aug-15 | GA | Jefferson | Jackson County | 5/0971 | 06/23/15 | RNAV (GPS) RWY 17, Amdt 2A.
20-Aug-15 | GA | Jefferson | Jackson County | 5/0973 | 06/23/15 | RNAV (GPS) RWY 35, Amdt 2A.
20-Aug-15 | MI | Grand Ledge | Abrams Muni | 5/0974 | 06/23/15 | RNAV (GPS) RWY 9, Orig-A.
20-Aug-15 | ME | Greenville | Greenville Muni | 5/0975 | 06/23/15 | RNAV (GPS) RWY 14, Orig.
20-Aug-15 | MS | Louisville | Louisville Winston County | 5/1073 | 06/16/15 | RNAV (GPS) RWY 35, Amdt 1.
20-Aug-15 | MS | Louisville | Louisville Winston County | 5/1074 | 06/16/15 | RNAV (GPS) RWY 17, Amdt 1.
20-Aug-15 | FL | Apalachicola | Apalachicola Rgnl-Cleve Randolph Field | 5/1250 | 06/22/15 | RNAV (GPS) RWY 14, Amdt 2A.
20-Aug-15 | FL | Apalachicola | Apalachicola Rgnl-Cleve Randolph Field | 5/1251 | 06/22/15 | RNAV (GPS) RWY 18, Orig-A.
20-Aug-15 | FL | Apalachicola | Apalachicola Rgnl-Cleve Randolph Field | 5/1252 | 06/22/15 | RNAV (GPS) RWY 6, Amdt 1A.
20-Aug-15 | FL | Apalachicola | Apalachicola Rgnl-Cleve Randolph Field | 5/1253 | 06/22/15 | RNAV (GPS) RWY 24, Amdt 1A.
20-Aug-15 | FL | Apalachicola | Apalachicola Rgnl-Cleve Randolph Field | 5/1254 | 06/22/15 | RNAV (GPS) RWY 32, Amdt 2A.
20-Aug-15 | FL | Apalachicola | Apalachicola Rgnl-Cleve Randolph Field | 5/1255 | 06/22/15 | RNAV (GPS) RWY 36, Orig-A.
20-Aug-15 | FL | Apalachicola | Apalachicola Rgnl-Cleve Randolph Field | 5/1256 | 06/22/15 | NDB RWY 14, Amdt 2A.
20-Aug-15 | FL | Apalachicola | Apalachicola Rgnl-Cleve Randolph Field | 5/1258 | 06/22/15 | NDB RWY 32, Amdt 2A.
20-Aug-15 | HI | Lihue | Lihue | 5/1332 | 06/11/15 | VOR/DME OR TACAN RWY 21, Amdt 4A.
20-Aug-15 | TN | Smyrna | Smyrna | 5/1497 | 06/23/15 | VOR/DME RWY 32, Amdt 13B.
20-Aug-15 | TN | Smyrna | Smyrna | 5/1498 | 06/23/15 | RNAV (GPS) RWY 32, Amdt 1.
20-Aug-15 | TN | Smyrna | Smyrna | 5/1499 | 06/23/15 | ILS OR LOC/DME RWY 32, Amdt 6.
20-Aug-15 | TN | Smyrna | Smyrna | 5/1500 | 06/23/15 | RNAV (GPS) RWY 19, Orig.
20-Aug-15 | TN | Smyrna | Smyrna | 5/1501 | 06/23/15 | RNAV (GPS) RWY 14, Amdt 1.
20-Aug-15 | TN | Jasper | Marion County-Brown Field | 5/1688 | 06/16/15 | NDB RWY 4, Amdt 5.
20-Aug-15 | KS | Phillipsburg | Phillipsburg Muni | 5/1742 | 06/24/15 | RNAV (GPS) RWY 13, Amdt 1.
20-Aug-15 | KS | Phillipsburg | Phillipsburg Muni | 5/1743 | 06/24/15 | NDB-A, Amdt 1.
20-Aug-15 | KS | Phillipsburg | Phillipsburg Muni | 5/1746 | 06/24/15 | RNAV (GPS) RWY 31, Amdt 1.
20-Aug-15 | AR | Pine Bluff | Grider Field | 5/1761 | 06/29/15 | RNAV (GPS) RWY 18, Amdt 1A.
20-Aug-15 | AR | Pine Bluff | Grider Field | 5/1762 | 06/29/15 | RNAV (GPS) RWY 36, Amdt 1A.
20-Aug-15 | AL | Jasper | Walker County-Bevill Field | 5/2332 | 06/29/15 | ILS OR LOC/DME RWY 27, Amdt 1.
20-Aug-15 | OH | Wapakoneta | Neil Armstrong | 5/2334 | 06/24/15 | RNAV (GPS) RWY 8, Orig.
20-Aug-15 | OH | Wapakoneta | Neil Armstrong | 5/2335 | 06/24/15 | VOR-A, Amdt 8.
20-Aug-15 | OH | Wapakoneta | Neil Armstrong | 5/2338 | 06/24/15 | RNAV (GPS) RWY 26, Orig.
20-Aug-15 | AL | Jasper | Walker County-Bevill Field | 5/2342 | 06/29/15 | RNAV (GPS) RWY 27, Orig.
20-Aug-15 | KY | Russellville | Russellville-Logan County | 5/2353 | 06/24/15 | RNAV (GPS) RWY 24, Orig.
20-Aug-15 | KY | Russellville | Russellville-Logan County | 5/2354 | 06/24/15 | VOR/DME RWY 24, Amdt 7.
20-Aug-15 | KY | Russellville | Russellville-Logan County | 5/2355 | 06/24/15 | RNAV (GPS) RWY 6, Orig.
20-Aug-15 | NJ | Linden | Linden | 5/2435 | 06/24/15 | GPS-A, Orig-A.
20-Aug-15 | GA | Monroe | Monroe-Walton County | 5/2530 | 06/16/15 | RNAV (GPS) RWY 3, Amdt 2.
20-Aug-15 | GA | Monroe | Monroe-Walton County | 5/2531 | 06/16/15 | NDB-A, Amdt 1.
20-Aug-15 | TN | Rogersville | Hawkins County | 5/2540 | 06/17/15 | GPS RWY 7, Orig-A.
20-Aug-15 | NJ | Wildwood | Cape May County | 5/2552 | 06/17/15 | VOR-A, Amdt 3C.
20-Aug-15 | NJ | Wildwood | Cape May County | 5/2554 | 06/17/15 | LOC RWY 19, Amdt 6D.
20-Aug-15 | NJ | Wildwood | Cape May County | 5/2555 | 06/17/15 | RNAV (GPS) RWY 19, Orig-C.
20-Aug-15 | NJ | Wildwood | Cape May County | 5/2557 | 06/17/15 | RNAV (GPS) RWY 10, Orig-B.
20-Aug-15 | NC | Rockingham | Richmond County | 5/2578 | 06/17/15 | RNAV (GPS) RWY 32, Orig-A.
20-Aug-15 | KS | Great Bend | Great Bend Muni | 5/2589 | 06/24/15 | RNAV (GPS) RWY 17, Orig.
20-Aug-15 | KS | Great Bend | Great Bend Muni | 5/2590 | 06/24/15 | RNAV (GPS) RWY 35, Orig.
20-Aug-15 | MN | New Ulm | New Ulm Muni | 5/2781 | 06/29/15 | RNAV (GPS) RWY 15, Orig-A.
20-Aug-15 | PA | Gettysburg | Gettysburg Rgnl | 5/2829 | 06/16/15 | Takeoff Minimums and (Obstacle) DP, Orig.
20-Aug-15 | GA | Butler | Butler Muni | 5/2888 | 06/16/15 | RNAV (GPS) RWY 36, Amdt 1A.
20-Aug-15 | MN | Aitkin | Aitkin Muni-Steve Kurtz Field | 5/2973 | 06/24/15 | RNAV (GPS) RWY 34, Orig-A.
20-Aug-15 | MN | Aitkin | Aitkin Muni-Steve Kurtz Field | 5/2974 | 06/24/15 | RNAV (GPS) RWY 16, Orig-A.
20-Aug-15 | MN | Aitkin | Aitkin Muni-Steve Kurtz Field | 5/2975 | 06/24/15 | NDB RWY 16, Amdt 5A.
20-Aug-15 | TN | Oneida | Scott Muni | 5/3079 | 06/26/15 | VOR/DME-A, Amdt 5A.
20-Aug-15 | SC | Winnsboro | Fairfield County | 5/3125 | 06/29/15 | RNAV (GPS) RWY 22, Amdt 1A.
20-Aug-15 | SC | Winnsboro | Fairfield County | 5/3126 | 06/29/15 | RNAV (GPS) RWY 4, Amdt 1A.
20-Aug-15 | SC | Winnsboro | Fairfield County | 5/3128 | 06/29/15 | NDB RWY 4, Amdt 4A.
20-Aug-15 | NY | Schenectady | Schenectady County | 5/3146 | 06/24/15 | ILS OR LOC RWY 4, Amdt 5C.
20-Aug-15 | NY | Schenectady | Schenectady County | 5/3148 | 06/24/15 | RNAV (GPS) RWY 28, Orig-B.
20-Aug-15 | NY | Schenectady | Schenectady County | 5/3221 | 06/24/15 | RNAV (GPS) RWY 22, Orig-A.
20-Aug-15 | NY | Schenectady | Schenectady County | 5/3222 | 06/24/15 | NDB RWY 22, Amdt 16A.
20-Aug-15 | PA | Philadelphia | Wings Field | 5/3236 | 06/16/15 | RNAV (GPS) RWY 24, Amdt 1.
20-Aug-15 | PA | Philadelphia | Wings Field | 5/3237 | 06/16/15 | RNAV (GPS) RWY 6, Amdt 1.
20-Aug-15 | MS | West Point | McCharen Field | 5/3460 | 06/17/15 | VOR-A, Amdt 4.
20-Aug-15 | MS | West Point | McCharen Field | 5/3461 | 06/17/15 | VOR/DME-B, Amdt 5.
20-Aug-15 | DC | Washington | Ronald Reagan Washington National | 5/3512 | 06/17/15 | RNAV (RNP) RWY 19, Amdt 2.
20-Aug-15 | AK | Kokhanok | Kokhanok | 5/3611 | 06/11/15 | Takeoff Minimums and (Obstacle) DP, Orig.
20-Aug-15 | GA | Augusta | Augusta Rgnl At Bush Field | 5/3650 | 06/22/15 | ILS OR LOC RWY 35, Amdt 28A.
20-Aug-15 | NC | Roanoke Rapids | Halifax-Northampton Rgnl | 5/3666 | 06/16/15 | VOR/DME RWY 2, Orig-A.
20-Aug-15 | GA | Lafayette | Barwick Lafayette | 5/3753 | 06/16/15 | Takeoff Minimums and (Obstacle) DP, Amdt 1.
20-Aug-15 | MS | Raymond | John Bell Williams | 5/3779 | 06/16/15 | NDB RWY 12, Amdt 3A.
20-Aug-15 | MS | Raymond | John Bell Williams | 5/3780 | 06/16/15 | ILS OR LOC RWY 12, Amdt 1A.
20-Aug-15 | MS | Raymond | John Bell Williams | 5/3781 | 06/16/15 | RNAV (GPS) RWY 12, Amdt 3A.
20-Aug-15 | MS | Brookhaven | Brookhaven-Lincoln County | 5/3817 | 06/26/15 | VOR/DME-A, Amdt 9.
20-Aug-15 | FL | St Augustine | Northeast Florida Rgnl | 5/3850 | 06/26/15 | RNAV (GPS) RWY 31, Amdt 1C.
20-Aug-15 | IL | Kankakee | Greater Kankakee | 5/3901 | 06/29/15 | RNAV (GPS) RWY 4, Amdt 1A.
20-Aug-15 | GA | Atlanta | Fulton County Airport-Brown Field | 5/3993 | 06/24/15 | ILS OR LOC RWY 8, Amdt 17.
20-Aug-15 | NY | East Hampton | East Hampton | 5/4418 | 06/16/15 | RNAV (GPS) Y RWY 28, Amdt 1.
20-Aug-15 | NY | East Hampton | East Hampton | 5/4419 | 06/16/15 | RNAV (GPS) Z RWY 28, Orig.
20-Aug-15 | NY | East Hampton | East Hampton | 5/4420 | 06/16/15 | RNAV (GPS) Z RWY 10, Amdt 1.
20-Aug-15 | NY | East Hampton | East Hampton | 5/4422 | 06/16/15 | RNAV (GPS) X RWY 10, Amdt 1.
20-Aug-15 | NY | East Hampton | East Hampton | 5/4423 | 06/16/15 | VOR-A, Amdt 11A.
20-Aug-15 | MD | Crisfield | Crisfield Muni | 5/4433 | 06/29/15 | RNAV (GPS)-B, Orig.
20-Aug-15 | MD | Crisfield | Crisfield Muni | 5/4450 | 06/29/15 | Takeoff Minimums and (Obstacle) DP, Orig.
20-Aug-15 | FL | Miami | Kendall-Tamiami Executive | 5/4451 | 06/29/15 | RNAV (GPS) RWY 27R, Orig.
20-Aug-15 | FL | Miami | Kendall-Tamiami Executive | 5/4456 | 06/29/15 | RNAV (GPS) RWY 9L, Orig-A.
20-Aug-15 | FL | Miami | Kendall-Tamiami Executive | 5/4457 | 06/29/15 | ILS OR LOC RWY 9R, Amdt 11.
20-Aug-15 | FL | Miami | Kendall-Tamiami Executive | 5/4460 | 06/29/15 | RNAV (GPS) RWY 27L, Amdt 2.
20-Aug-15 | FL | Miami | Kendall-Tamiami Executive | 5/4464 | 06/29/15 | RNAV (GPS) RWY 9R, Amdt 2.
20-Aug-15 | FL | Miami | Kendall-Tamiami Executive | 5/4465 | 06/29/15 | Takeoff Minimums and (Obstacle) DP, Amdt 8.
20-Aug-15 | FL | Tallahassee | Tallahassee Rgnl | 5/4616 | 06/29/15 | RNAV (GPS) RWY 36, Amdt 1A.
20-Aug-15 | FL | Tallahassee | Tallahassee Rgnl | 5/4621 | 06/29/15 | VOR/DME OR TACAN RWY 36, Amdt 1A.
20-Aug-15 | FL | Tallahassee | Tallahassee Rgnl | 5/4622 | 06/29/15 | VOR RWY 18, Amdt 12A.
20-Aug-15 | FL | Tallahassee | Tallahassee Rgnl | 5/4624 | 06/29/15 | RADAR 1, Amdt 5B.
20-Aug-15 | FL | St Augustine | Northeast Florida Rgnl | 5/4637 | 06/17/15 | RNAV (GPS) RWY 13, Orig-B.
20-Aug-15 | HI | Hana | Hana | 5/4752 | 06/11/15 | RNAV (GPS) RWY 26, Orig-A.
20-Aug-15 | NJ | Lumberton | Flying W | 5/5169 | 06/16/15 | RNAV (GPS) RWY 19, Amdt 1A.
20-Aug-15 | NJ | Lumberton | Flying W | 5/5170 | 06/16/15 | RNAV (GPS) RWY 1, Amdt 1A.
20-Aug-15 | NJ | Lumberton | Flying W | 5/5171 | 06/16/15 | VOR-A, Amdt 4.
20-Aug-15 | KY | London | London-Corbin Arpt-Magee Field | 5/5399 | 06/29/15 | VOR RWY 6, Amdt 13.
20-Aug-15 | FL | Naples | Naples Muni | 5/5858 | 06/16/15 | VOR RWY 23, Amdt 6D.
20-Aug-15 | OH | Cambridge | Cambridge Muni | 5/5859 | 06/29/15 | RNAV (GPS) RWY 22, Orig-A.
20-Aug-15 | MA | Westfield/Springfield | Westfield-Barnes Rgnl | 5/6215 | 06/23/15 | ILS OR LOC RWY 20, Amdt 8.
20-Aug-15 | NY | Rochester | Greater Rochester Intl | 5/6338 | 06/29/15 | ILS OR LOC RWY 4, ILS RWY 4 (SA CAT I), ILS RWY 4 (CAT II), Amdt 21A.
20-Aug-15 | FL | Tallahassee | Tallahassee Rgnl | 5/6413 | 06/30/15 | RNAV (GPS) RWY 18, Amdt 1A.
20-Aug-15 | NC | Wilson | Wilson Industrial Air Center | 5/6537 | 06/29/15 | RNAV (GPS) RWY 21, Orig-C.
20-Aug-15 | HI | Honolulu | Honolulu Intl | 5/6631 | 06/11/15 | ILS Y RWY 4R, Amdt 1A.
20-Aug-15 | CA | Livermore | Livermore Muni | 5/7014 | 06/11/15 | ILS RWY 25R, Amdt 7A.
20-Aug-15 | WV | Martinsburg | Eastern WV Rgnl/Shepherd Fld | 5/7093 | 06/23/15 | ILS OR LOC RWY 26, Amdt 8A.
20-Aug-15 | WV | Martinsburg | Eastern WV Rgnl/Shepherd Fld | 5/7094 | 06/23/15 | RNAV (GPS) RWY 26, Orig-A.
20-Aug-15 | AK | Coldfoot | Coldfoot | 5/7196 | 06/11/15 | Takeoff Minimums and (Obstacle) DP, Orig.
20-Aug-15 | NE | Cozad | Cozad Muni | 5/7288 | 06/29/15 | Takeoff Minimums and (Obstacle) DP, Amdt 1.
20-Aug-15 | AK | Point Hope | Point Hope | 5/7308 | 06/11/15 | RNAV (GPS) RWY 1, Amdt 1.
20-Aug-15 | AK | Point Hope | Point Hope | 5/7309 | 06/11/15 | RNAV (GPS) RWY 19, Amdt 1.
20-Aug-15 | IA | Algona | Algona Muni | 5/7402 | 06/30/15 | Takeoff Minimums and (Obstacle) DP, Amdt 4.
20-Aug-15 | MN | Montevideo | Montevideo-Chippewa County | 5/7403 | 06/30/15 | Takeoff Minimums and (Obstacle) DP, Orig.
20-Aug-15 | OK | Cushing | Cushing Muni | 5/7431 | 06/30/15 | Takeoff Minimums and (Obstacle) DP, Amdt 1.
20-Aug-15 | AK | Selawik | Selawik | 5/7444 | 06/11/15 | RNAV (GPS) RWY 4, Orig-B.
20-Aug-15 | AK | Selawik | Selawik | 5/7445 | 06/11/15 | RNAV (GPS) Y RWY 22, Orig-B.
20-Aug-15 | AR | Fayetteville/Springdale/ | Northwest Arkansas Rgnl | 5/7587 | 06/22/15 | ILS OR LOC/DME RWY 16, Amdt 2A.
20-Aug-15 | AR | Fayetteville/Springdale/ | Northwest Arkansas Rgnl | 5/7588 | 06/22/15 | ILS OR LOC/DME RWY 17, Orig-B.
20-Aug-15 | AR | Fayetteville/Springdale/ | Northwest Arkansas Rgnl | 5/7589 | 06/22/15 | ILS OR LOC/DME RWY 34, Amdt 2.
20-Aug-15 | AR | Fayetteville/Springdale/ | Northwest Arkansas Rgnl | 5/7590 | 06/22/15 | ILS OR LOC/DME RWY 35, Orig-B.
20-Aug-15 | AR | Fayetteville/Springdale/ | Northwest Arkansas Rgnl | 5/7592 | 06/22/15 | RNAV (GPS) RWY 16, Amdt 2.
20-Aug-15 | AR | Fayetteville/Springdale/ | Northwest Arkansas Rgnl | 5/7593 | 06/22/15 | RNAV (GPS) RWY 17, Orig-B.
20-Aug-15 | AR | Fayetteville/Springdale/ | Northwest Arkansas Rgnl | 5/7594 | 06/22/15 | RNAV (GPS) RWY 34, Amdt 1.
20-Aug-15 | AR | Fayetteville/Springdale/ | Northwest Arkansas Rgnl | 5/7595 | 06/22/15 | RNAV (GPS) RWY 35, Orig-B.
20-Aug-15 | CA | Sacramento | Sacramento Intl | 5/7810 | 06/11/15 | RNAV (GPS) Y RWY 34R, Amdt 1.
20-Aug-15 | WY | Jackson | Jackson Hole | 5/7820 | 06/11/15 | RNAV (GPS) X RWY 1, Amdt 1A.
20-Aug-15 | MS | Greenwood | Greenwood-Leflore | 5/8306 | 06/16/15 | ILS OR LOC RWY 18, Amdt 8.
20-Aug-15 | VA | Suffolk | Suffolk Executive | 5/8347 | 06/17/15 | RNAV (GPS) RWY 25, Amdt 1.
20-Aug-15 | VA | Suffolk | Suffolk Executive | 5/8348 | 06/17/15 | RNAV (GPS) RWY 22, Amdt 1.
20-Aug-15 | VA | Suffolk | Suffolk Executive | 5/8349 | 06/17/15 | LOC RWY 4, Amdt 4.
20-Aug-15 | VA | Suffolk | Suffolk Executive | 5/8350 | 06/17/15 | RNAV (GPS) RWY 4, Amdt 3.
20-Aug-15 | NJ | Sussex | Sussex | 5/8364 | 06/17/15 | VOR-A, Amdt 6.
20-Aug-15 | IL | Monticello | Piatt County | 5/8511 | 06/16/15 | VOR OR GPS-A, Amdt 1.
20-Aug-15 | NM | Carlsbad | Cavern City Air Trml | 5/8917 | 06/26/15 | VOR RWY 32L, Amdt 6A.
20-Aug-15 | NJ | Hammonton | Hammonton Muni | 5/9012 | 06/23/15 | RNAV (GPS) RWY 3, Amdt 1.
20-Aug-15 | NJ | Hammonton | Hammonton Muni | 5/9013 | 06/23/15 | VOR-A, Amdt 7.
20-Aug-15 | NJ | Hammonton | Hammonton Muni | 5/9015 | 06/23/15 | VOR-B, Amdt 2.
20-Aug-15 | AK | Barrow | Wiley Post-Will Rogers Memorial | 5/9089 | 06/11/15 | RNAV (GPS) RWY 7, Orig.
20-Aug-15 | AK | Barrow | Wiley Post-Will Rogers Memorial | 5/9090 | 06/11/15 | Takeoff Minimums and (Obstacle) DP, Orig.
20-Aug-15 | CO | Leadville | Lake County | 5/9091 | 06/11/15 | GPS RWY 16, Orig.
20-Aug-15 | MA | Westfield/Springfield | Westfield-Barnes Rgnl | 5/9300 | 06/23/15 | VOR OR TACAN RWY 2, Amdt 4E.
20-Aug-15 | MA | Westfield/Springfield | Westfield-Barnes Rgnl | 5/9304 | 06/23/15 | RNAV (GPS) RWY 2, Orig-A.
20-Aug-15 | MA | Westfield/Springfield | Westfield-Barnes Rgnl | 5/9318 | 06/23/15 | RNAV (GPS) RWY 20, Amdt 1B.
20-Aug-15 | MA | Westfield/Springfield | Westfield-Barnes Rgnl | 5/9321 | 06/23/15 | VOR RWY 20, Amdt 20D.
20-Aug-15 | FL | Plant City | Plant City | 5/9362 | 06/23/15 | VOR RWY 28, Amdt 3B.
20-Aug-15 | AK | Anchorage | Merrill Field | 5/9701 | 06/11/15 | Takeoff Minimums and (Obstacle) DP, Amdt 1.
20-Aug-15 | OK | Ardmore | Ardmore Muni | 5/9780 | 06/26/15 | RNAV (GPS) RWY 13, Orig-A.
20-Aug-15 | OK | Ardmore | Ardmore Muni | 5/9782 | 06/26/15 | ILS OR LOC RWY 31, Amdt 5A.
20-Aug-15 | OK | Ardmore | Ardmore Muni | 5/9783 | 06/26/15 | RNAV (GPS) RWY 31, Amdt 1A.
20-Aug-15 | OK | Ardmore | Ardmore Muni | 5/9784 | 06/26/15 | VOR-B, Amdt 1A.
20-Aug-15 | FL | Fort Lauderdale | Fort Lauderdale/Hollywood Intl | 5/9824 | 06/16/15 | Takeoff Minimums and (Obstacle) DP, Amdt 6.
20-Aug-15 | NY | Canandaigua | Canandaigua | 5/9871 | 06/22/15 | RNAV (GPS) RWY 31, Amdt 1.

[FR Doc. 2015-18631 Filed 7-30-15; 8:45 am]

BILLING CODE 4910-13-P